DEPARTMENT OF THE INTERIOR

Bureau of Land Management

[LLOR957000-L631000000-HD000: HAG11-0217]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 30 S., R. 11 W., accepted March 24, 2011

T. 28 S., R. 3 W., accepted March 24, 2011

T. 24 S., R. 6 E., accepted March 28, 2011

T. 14 S., R. 7 W., accepted March 28, 2011

T. 6 S., R. 11 E., accepted March 28, 2011

T. 23 S., R. 3 W., accepted April 6, 2011

T. 20 S., R. 6 W., accepted April 6, 2011

T. 29 S., R. 4 W., accepted April 6, 2011

T. 14 S., R. 1 W., accepted April 8, 2011

T. 24 S., R. 8 W., accepted April 8, 2011

T. 21 S., R. 9 W., accepted April 20, 2011

T. 30 S., R. 8 W., accepted April 22, 2011

T. 31 S., R. 6 W., accepted April 22, 2011

T. 30 S., R. 6 W., accepted April 22, 2011

T. 3 S., R. 44 E., accepted April 22, 2011

T. 31 S., R. 14 W., accepted April 22, 2011

T. 15 S., R. 1 W., accepted April 27, 2011

Washington

T. 12 N., R. 1 E., accepted March 28, 2011

T. 36 N., R. 33 E., accepted March 28, 2011

T. 16 N., R. 4 W., accepted April 22, 2011

T. 9 N., R. 27 E., accepted April 27, 2011

ADDRESSES: A copy of the plats may be obtained from the Land Office at the Bureau of Land Management, Oregon/Washington State Office, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 S.W. 1st Avenue, Portland, Oregon 97204. Persons who use a telecommunications device for the deaf (TDD) may call the Federal Information Relay Service (FIRS) at 1-800-877-8339 to contact the above individual during normal business hours. The FIRS is available 24 hours a day, 7 days a week, to leave a message or question with the above individual. You will receive a reply during normal business hours.

Fred O'Ferrall,
Chief, Branch of Land, Mineral, and Energy Resources.

[FR Doc. 2011-11083 Filed 5-5-11; 8:45 am]

BILLING CODE 4310-33-P